NUCLEAR REGULATORY COMMISSION

[Docket No. 50-302]

Florida Power and Light; Notice of Consideration of Issuance of Amendment to Facility Operating License, Proposed No Significant Hazards Consideration Determination, and Opportunity for a Hearing

The U.S. Nuclear Regulatory Commission (the Commission) is considering issuance of an amendment to Renewed Facility Operating License No. DPR-72 issued to Florida Power and Light (the licensee) for operation of the Crystal River Unit No. 3 Nuclear Generating Plant (CR-3) located in Citrus County, Florida.

The proposed amendment would change the basis for protection of spent fuel stored in the spent fuel pool (SFP) in order to eliminate the Final Safety Analysis Report commitment for maintaining the SFP missile shields.

Before issuance of the proposed license amendment, the Commission will have made findings required by the Atomic Energy Act of 1954, as amended (the Act), and the Commission's regulations.

The Commission has made a proposed determination that the amendment request involves no significant hazards consideration. Under the Commission's regulations in Title 10 of the Code of Federal Regulations (10 CFR), Section 50.92, this means that operation of the facility in accordance with the proposed amendment would not (1) involve a significant increase in the probability or consequences of an accident previously evaluated; or (2) create the possibility of a new or different kind of accident from any accident previously evaluated; or (3) involve a significant reduction in a margin of safety. As required by 10 CFR 50.91(a), the licensee has provided its analysis of the issue of no significant hazards consideration, which is presented below:

1. [The Proposed Change] Does Not Involve a Significant Increase in the Probability or Consequences of an Accident Previously Evaluated.

The LAR [license amendment request] proposes to eliminate the commitment for maintaining the Spent Fuel Pool (SFP) missile shields. Removal of the missile shields increases the probability of an accident (damaging fuel assemblies in the SFP), but the increase is not significant. Based on the Individual Plant Evaluation for External Events (IPEEE) for the Crystal River Nuclear Plant (CR-3), the frequency of a tornado, Class F1 or greater, that could create tornado missiles is 2.1 E⁻⁵/year and has a total probability of core damage of 9.2 E⁻⁸/year. This probability falls below the threshold of credible accidents.

Fuel Handling Accidents (FHAs) are analyzed in Section 14.2.2.3 of the CR-3 Final Safety Analysis Report (FSAR). The FHA outside the Reactor Building (RB) event is described as the dropping of a fuel assembly into the spent fuel storage pool that results in damage to a fuel assembly and the release of the gaseous fission products. The current FHA assumes all 208 fuel pins in the dropped assembly are damaged and the gas gap activity released. The results of that analysis demonstrate that the applicable dose acceptance criteria, 10 CFR 50.67 and Regulatory Guide 1.183, “Alternative Radiological Source Terms for Evaluating Design Basis Accidents at Nuclear Power Reactors,” are satisfied.

An engineering evaluation performed for this proposed change has determined that with the credible tornado missiles, any impact that a missile would impart on a SFP storage rack, spent fuel assembly, or the SFP floor or walls would be enveloped by the fuel handling accident. Any interaction between a tornado missile and the new fuel stored in the new fuel storage vault would potentially result in significant damage to an assembly, but no significant offsite radiation would be released and no criticality concerns exist.

Because neither the probability nor the consequences of a FHA are significantly increased, and because there are no radiological safety concerns with the new fuel storage, it is concluded that the LAR does not involve a significant increase in the probability or consequences of an accident previously evaluated.

2. [The Proposed Change] Does Not Create the Possibility of a New or Different Kind of Accident From Any Previously Evaluated.

Onsite storage of spent fuel assemblies in the spent fuel pools is a normal activity for which CR-3 has been designed and licensed. As part of assuring that this normal activity can be performed without endangering the public health and safety, the ability of CR-3 to safely accommodate different possible accidents in the spent fuel pools, such as dropping a fuel assembly or the misloading of a fuel assembly, have been analyzed with acceptable results. The interaction between a tornado missile and spent fuel in the SFP has a very low probability of occurrence, and the SFP storage racks and the normal water layer would provide significant protection to the fuel. The SFP integrity would not be compromised so there is not expected to be any significant loss of water above the fuel.

Currently, the SFP missile shields are removed when refueling, maintenance, and other fuel and tool movement activities in the SFP are ongoing. Removing the requirement for missile shields does not introduce a new plant configuration that could introduce a new type of accident.

Any interaction between a credible tornado missile and the new fuel stored in the new fuel storage vault is not considered an accident under the guidance of Regulatory Guide 1.70, Revision 3, November 1978, “Standard Format and Content of Safety Analysis Reports for Nuclear Power Plants,” as the rods are not irradiated and no significant radiation would be released in the event of a complete loss of assembly integrity. This event would have financial implications, but is not considered an accident under RG 1.70 criteria.

3. [The Proposed Change] Does Not Involve a Significant Reduction in a Margin of Safety.

The purpose of the missile shields is to prevent tornado missiles from damaging fuel and racks in the SFP. Although the missile shields provide a barrier, they are not alone in providing margin to the SFP to protect the public health and safety.

The margin of safety for the SFP also includes the amount of water in the pool above the top of the fuel, the amount of soluble boron in the pool, the distance between assemblies, and the fixed neutron absorbers in the storage racks. These are design parameters that prevent inadvertent criticality as well as a significant release of radiation in the event of a dropped (damaged) fuel assembly. The elimination of the CR-3 commitment to maintain missile shields over the SFP during all times, when not working with the fuel or in the pool, will not have any significant impact on these parameters.

As already noted in FSAR Section 9.3.2.6.1, a tornado directly over the SFP is not postulated to cause the loss of any significant amount of water in the SFP due to a 3 psi pressure drop caused by a tornado. A credible tornado missile that enters the SFP is expected to cause the loss of some pool inventory, but not a significant amount. The removal of the missile shields will therefore, not cause or allow a significant loss of pool inventory.

Unless a significant volume of borated water is lost from the pool from either the tornado suction or the missile splash down, the boron concentration will not change significantly once refilled. Additionally, CR-3 takes credit for soluble boron only as margin to 0.95 K effective for a misloaded fuel assembly. Subcriticality is maintained even with the SFP filled with un-borated water. The SFP storage racks are designed and constructed with the specific center to center distances between the cells (9.11 inch for Pool B and 10.5 inch for Pool A). Any impact from a tornado missile may cause some local rack deformation, but is not expected to change cell spacing for any racks. This logic also holds for the neutron absorber in the SFP storage racks. There may be some local rack deformation, but no significant movement of the fixed poison is expected to occur.

Therefore, a significant reduction in a margin of safety is not expected to occur from the permanent removal of the SFP missile shields.

The NRC staff has reviewed the licensee's analysis and, based on this review, it appears that the three standards of 10 CFR 50.92(c) are satisfied. Therefore, the NRC staff proposes to determine that the amendment request involves no significant hazards consideration.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example, in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rulemaking, Directives and Editing Branch, Division of Administrative Services, Office of Administration, U.S. Nuclear Regulatory Commission, Washington, DC 20555-0001, and should cite the publication date and page number of this Federal Register notice. Written comments may also be delivered to Room 6D59, Two White Flint North, 11545 Rockville Pike, Rockville, Maryland, from 7:30 a.m. to 4:15 p.m. Federal workdays. Documents may be examined, and/or copied for a fee, at the NRC's Public Document Room (PDR), located at One White Flint North, Public File Area O1 F21, 11555 Rockville Pike (first floor), Rockville, Maryland.

The filing of requests for hearing and petitions for leave to intervene is discussed below.

Within 60 days after the date of publication of this notice, the licensee may file a request for a hearing with respect to issuance of the amendment to the subject facility operating license and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR part 2. Interested persons should consult a current copy of 10 CFR 2.309, which is available at the Commission's PDR, located at One White Flint North, Public File Area O1 F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address and telephone number of the requestor or petitioner; (2) the nature of the requestor's/petitioner's right under the Act to be made a party to the proceeding; (3) the nature and extent of the requestor's/petitioner's property, financial, or other interest in the proceeding; and (4) the possible effect of any decision or order which may be entered in the proceeding on the requestors/petitioner's interest. The petition must also identify the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner intends to rely in proving the contention at the hearing. The petitioner/requestor must also provide references to those specific sources and documents of which the petitioner is aware and on which the petitioner intends to rely to establish those facts or expert opinion. The petition must include sufficient information to show that a genuine dispute exists with the applicant on a material issue of law or fact. Contentions shall be limited to matters within the scope of the amendment under consideration. The contention must be one which, if proven, would entitle the petitioner to relief. A petitioner/requestor who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

Nontimely requests and/or petitions and contentions will not be entertained absent a determination by the Commission or the presiding officer of the Atomic Safety and Licensing Board that the petition, request and/or the contentions should be granted based on a balancing of the factors specified in 10 CFR 2.309(c)(1)(i)-(viii).

A request for a hearing or a petition for leave to intervene must be filed by: (1) First class mail addressed to the Office of the Secretary of the Commission, U.S. Nuclear Regulatory Commission, Washington, DC 20555-0001, Attention: Rulemaking and Adjudications Staff; (2) courier, express mail, and expedited delivery services: Office of the Secretary, Sixteenth Floor, One White Flint North, 11555 Rockville Pike, Rockville, Maryland, 20852, Attention: Rulemaking and Adjudications Staff; (3) E-mail addressed to the Office of the Secretary, U.S. Nuclear Regulatory Commission, hearingdocket@nrc.gov; or (4) facsimile transmission addressed to the Office of the Secretary, U.S. Nuclear Regulatory Commission, Washington, DC, Attention: Rulemakings and Adjudications Staff at (301) 415-1101, verification number is (301) 415-1966. A copy of the request for hearing and petition for leave to intervene should also be sent to the Office of the General Counsel, U.S. Nuclear Regulatory Commission, Washington, DC 20555-0001, and it is requested that copies be transmitted either by means of facsimile transmission to 301-415-3725 or by e-mail to OGCMailCenter@nrc.gov. A copy of the request for hearing and petition for leave to intervene should also be sent to David T. Conley, Associate General Counsel II—Legal Department, Progress Energy Service Company, LLC, Post Office Box 1551, Raleigh, North Carolina 27602, attorney for the licensee.

For further details with respect to this action, see the application for amendment dated February 8, 2007, which is available for public inspection at the Commission's PDR, located at One White Flint North, File Public Area O1 F21, 11555 Rockville Pike (first floor), Rockville, Maryland. Publicly available records will be accessible from the Agencywide Documents Access and Management System's (ADAMS) Public Electronic Reading Room on the Internet at the NRC Web site, http://www.nrc.gov/reading-rm/adams.html. Persons who do not have access to ADAMS or who encounter problems in accessing the documents located in ADAMS, should contact the NRC PDR Reference staff by telephone at 1-800-397-4209, 301-415-4737, or by e-mail to pdr@nrc.gov.

Dated at Rockville, Maryland, this 7th day of March 2007.
For the Nuclear Regulatory Commission.
Stewart N. Bailey,
Senior Project Manager, Plant Licensing Branch II-2, Division of Operating Reactor Licensing, Office of Nuclear Reactor Regulation.

[FR Doc. E7-4517 Filed 3-12-07; 8:45 am]

BILLING CODE 7590-01-P